SMALL BUSINESS ADMINISTRATION

[Disaster Declaration #15298 and #15299; PUERTO RICO Disaster Number PR-00029]

Presidential Declaration Amendment of a Major Disaster for the Commonwealth of Puerto Rico

AGENCY: U.S. Small Business Administration.

ACTION: Amendment 5.

SUMMARY: This is an amendment of the Presidential declaration of a major disaster for the Commonwealth of Puerto Rico (FEMA-4336-DR), dated 09/10/2017.

Incident: Hurricane Irma.

Incident Period: 09/05/2017 through 09/07/2017.

DATES: Issued on 03/14/2018.

Physical Loan Application Deadline Date: 06/18/2018.

Economic Injury (EIDL) Loan Application Deadline Date: 06/11/2018.

ADDRESS: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the Commonwealth of Puerto Rico, dated 09/10/2017, is hereby amended to extend the deadline for filing applications for physical damages as a result of this disaster to 06/18/2018.

All other information in the original declaration remains unchanged.

(Catalog of Federal Domestic Assistance Number 59008)

James E. Rivera,
Associate Administrator for Disaster Assistance.

[FR Doc. 2018-05629 Filed 3-20-18; 8:45 am]

BILLING CODE 8025-01-P